DEPARTMENT OF AGRICULTURE

Forest Service

Forest Resource Coordinating Committee

AGENCY: Forest Service, USDA.

ACTION: Notice of meeting.

SUMMARY: The Forest Resource Coordinating Committee (Committee) will meet in Washington, DC. The Committee is authorized under Section 8005 of the Food, Conservation, and Energy Act of 2008 (the Act) (Pub. L. 110-246). Additional information concerning the Committee, including the meeting agenda, supporting documents and minutes, can be found by visiting the Committee's Web site at http://www.fs.fed.us/spf/coop/frcc/.

DATES: The meeting will be held on the following dates and time:

• Wednesday, November 9, 2016, from 8:30 a.m. to 5:00 p.m. EST

• Thursday, November 10, 2016, from 8:30 a.m. to 5:00 p.m. EST

All meetings are subject to cancellation. For updated status of the meeting prior to attendance, please contact the person listed under FOR FURTHER INFORMATION CONTACT.

ADDRESSES: The meeting will be held at the Hotel Indigo, Inspiration Conference Room, 151 Haywood Street, Asheville, North Carolina.

Written comments may be submitted as described under SUPPLEMENTARY INFORMATION. All comments, including names and addresses when provided, are placed in the record and are available for public inspection and copying. The public may inspect comments placed on the Committee's Web site listed above.

FOR FURTHER INFORMATION CONTACT: Scott Stewart, Forest Resource Coordinating Committee Designated Federal Officer, Cooperative Forestry Staff by phone at 202-205-1618 or Jennifer Helwig, Forest Resource Coordinating Committee Program Coordinator, Cooperative Forestry Staff by phone at 202-205-0892. Individuals who use telecommunication devices for the deaf (TDD) may call the Federal Information Relay Service (FIRS) at 1-800-877-8339 between 8:00 a.m. and 8:00 p.m., Eastern Daylight Time, Monday through Friday.

SUPPLEMENTARY INFORMATION: The purpose of the meeting is to:

1. Discuss current and emerging recommendation efforts and develop a briefing-paper for incoming Administration;

2. Meet partners to hear concerns and opportunities to collaborate; and

3. Conduct Work Group break out sessions.

The meeting is open to the public. The agenda will include time for people to make oral statements of three minutes or less. Individuals wishing to make an oral statement should submit a request in writing by November 3, 2016 to be scheduled on the agenda. Anyone who would like to bring related matters to the attention of the Committee may file written statements with the Committee staff before November 3, 2016. Written comments and time requests for oral comments must be sent to Scott Stewart, 1400 Independence Ave. SW., Mailstop 1123, Washington, DC 20250; or by email to sstewart@fs.fed.us. A summary of the meeting will be posted at http://www.fs.fed.us/spf/coop/frcc within 21 days after the meeting.

Meeting Accommodations: If you are a person requiring reasonable accommodation, please make requests in advance for sign language interpreting, assistive listening devices or other reasonable accommodations for access to the facility or proceedings by contacting the person listed under the FOR FURTHER INFORMATION CONTACT. All reasonable accommodation requests are managed on a case by case basis.

Dated: October 21, 2016.
Patricia Hirami,
Associate Deputy Chief, State and Private Forestry.

[FR Doc. 2016-26195 Filed 10-28-16; 8:45 am]

BILLING CODE 3411-15-P